DEPARTMENT OF THE INTERIOR

Bureau of Indian Affairs

[190A2100DD/AAKC001030/A0A501010.999900 253G; OMB Control Number 1076-0185]

Agency Information Collection Activities; Bureau of Indian Education Tribal Education Department Grant Program

AGENCY: Bureau of Indian Affairs, Interior.

ACTION: Notice of information collection; request for comment.

SUMMARY: In accordance with the Paperwork Reduction Act of 1995, we, the Bureau of Indian Education (BIE) are proposing to renew an information collection.

DATES: Interested persons are invited to submit comments on or before December 24, 2018.

ADDRESSES: Send your comments on this information collection request (ICR) by mail to the Maureen Lesky, 1011 Indian School Road NW, Suite 332, Albuquerque, NM 87104; or by email to Maureen.Lesky@bie.edu. Please reference OMB Control Number 1076-0185 in the subject line of your comments.

FOR FURTHER INFORMATION CONTACT: To request additional information about this ICR, contact Maureen Lesky by email at Maureen.Lesky@bie.edu, or by telephone at (505) 563-5397.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under 25 U.S.C. 2020, Congress appropriated funding through the Bureau of Indian Education (BIE) for the development and operation of tribal departments or divisions of education for the purpose of planning and coordinating all educational programs of the tribe. All tribal education departments (TEDs) awarded will provide coordinating services and technical assistance to the school(s) they serve. As required under 25 U.S.C. 2020, for a federally recognized tribe to be eligible to receive a grant, the tribe shall submit a grant application proposal. Once the grant has been awarded, each awardee will be responsible for quarterly and annual reports. All awardees shall comply with regulations relating to grants made under 25 U.S.C. 450h(a).

Title of Collection: Tribal Education Department Grant Program.

OMB Control Number: 1076-0185.

Form Number: N/A.

Type of Review: Extension of a currently approved collection.

Respondents/Affected Public: Federally-recognized tribes and their Tribal Education Departments (TEDs).

Total Estimated Number of Annual Respondents: 13.

Total Estimated Number of Annual Responses: 63.

Estimated Completion Time per Response: One time proposal submission is 111 hours, 1 hour to prepare a quarterly report, and 2 hours to prepare an annual report.

Total Estimated Number of Annual Burden Hours: 1,503 hours.

Respondent's Obligation: Required to Obtain a Benefit.

Frequency of Collection: One time proposal submission, quarterly financial reports, and annual report.

Total Estimated Annual Nonhour Burden Cost: $5,359.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2018-23181 Filed 10-23-18; 8:45 am]

BILLING CODE 4337-15-P